DEPARTMENT OF AGRICULTURE

Animal and Plant Health Inspection Service

7 CFR Part 340

[Docket No. APHIS-2008-0023]

RIN 0579-AC31

Importation, Interstate Movement, and Release Into the Environment of Certain Genetically Engineered Organisms; Correction

AGENCY: Animal and Plant Health Inspection Service, USDA.

ACTION: Proposed rule; correction.

SUMMARY: We are correcting an error in our proposed rule to revise the regulations regarding the importation, interstate movement, and environmental release of certain genetically engineered organisms. The proposed rule was published in the Federal Register on October 9, 2008 (73 FR 60008-60048, Docket No. APHIS 2008-0023).

FOR FURTHER INFORMATION CONTACT: Biotechnology Regulatory Services, APHIS, 4700 River Road Unit 147, Riverdale, MD 20737-1236; (301) 734-5710.

SUPPLEMENTARY INFORMATION:

On October 9, 2008, we published in the Federal Register (73 FR 60008-60048, Docket No. APHIS 2008-0023) a proposed rule to revise the regulations regarding the importation, interstate movement, and environmental release of certain genetically engineered organisms.

In the SUPPLEMENTARY INFORMATION section of the proposed rule on page 60037, under the heading “D. Executive Order 12988,” we stated that, if this proposed rule is adopted, no State or local laws or regulations would be preempted by this rule. This information is incorrect. We should have stated that, if this proposed rule is adopted, all State and local laws and regulations that are inconsistent with this rule will be preempted. This document corrects that error.

Correction

In FR Doc. E8-23584, published on October 9, 2008 (73 FR 60008-60048), make the following correction: On page 60037, first column, under the heading “D. Executive Order 12988,” correct “No State or local laws or regulations would be preempted by this rule” to read “All State and local laws or regulations that are inconsistent with this rule will be preempted”.

Done in Washington, DC this 5th day of November 2008.
Kevin Shea,
Acting Administrator, Animal and Plant Health Inspection Service.

[FR Doc. E8-26717 Filed 11-7-08; 8:45 am]

BILLING CODE 3410-34-P